DEPARTMENT OF HEALTH AND HUMAN SERVICES

Centers for Disease Control and Prevention

[Program Announcement AA226]

Provider Education and Public Awareness About Primary Immunodeficiency Disease; Notice of Intent To Fund Single Eligibility Award

A. Purpose

The Centers for Disease Control and Prevention (CDC) announces the intent to fund fiscal year (FY) 2005 funds for a grant program to the Jeffrey Modell Foundation for a National Campaign for Provider Education and Public Awareness about Primary Immunodeficiency (PI Disease). The purpose of the program is to strengthen the nation's capacity to carry out public health activities in the area of PI diseases by increasing physician education and public health awareness through the program for primary immune deficiency disease as implemented by the Jeffrey Modell Foundation. The objective is to disseminate educational information on a national level to public and private health care providers, educators, third-party payers, impacted families, and others who may help expedite clinical recognition and improve the health outcome for Americans with PI disease. The Catalog of Federal Domestic Assistance number for this program is 93.283.

B. Eligible Applicant

Assistance will be provided only to the Jeffrey Modell Foundation (JMF) in accordance with language in the Conference Report to the fiscal year 2005 Appropriations (Pub. L. 108-447, H.R. Rep. No. 108-792 2004)which explains congressional intent that CDC continue to provide funding to JMF. The specific language is as follows:

“In each of last three years, Congress has made available funds for CDC to support the national physician education and public awareness campaign developed by the Jeffrey Modell Foundation. The Committee understands that the Foundation has leveraged more than seven dollars from donors and the media for every federal dollar appropriated and is a model of public-private cooperation. The Committee encourages the CDC to expand the reach of the Foundation's campaign to underserved communities, including African-American and Hispanic populations, and has provided sufficient funding to reach that critical goal. The Committee also encourages CDC to expand its programmatic activity on primary immune deficiency diseases to include pilot programs focused on newborn screening and school wellness.”

The Jeffrey Modell Foundation, Inc. (JMF) was established in 1987 to address early and precise diagnosis, meaningful treatments, and ultimately cures for Primary Immunodeficiency Diseases in memory of Jeffrey Modell, who died from pneumonia due to Primary Immunodeficiency at the age of 15. It is a multi-faceted nonprofit research foundation devoted to the early and precise diagnosis, meaningful treatment, and ultimate cure of PI. The Jeffrey Modell Foundation is focused on the following Primary Immunodeficiency treatment, education, awareness and research areas: Clinical and basic research to better understand and treat Primary Immunodeficiencies; function as a national and international source for the dissemination of information and education into the diagnosis and treatment of genetic immunodeficiencies; advocates on behalf of patients and families to assure access to excellent and comprehensive care; promote awareness of Primary Immunodeficiency diseases through programs involving lay, scientific, and medical communities; and addressing quality of life concerns for patients with Primary Immunodeficiency diseases. The activities that are conducted to achieve the above objectives and focuses consist of but are not limited to the following: Sponsored symposiums and workshops; support for research and training; and the provision of diagnostic, clinical, and education services. The Foundation supports a 24-hour-a-day national hotline, which offers information and referrals to immunologists at major medical centers around the country. We are not aware of another organization with a similar background, approach, and as broad a reach in the spectrum of issues related to Primary Immunodeficiency diseases such as the international focus, service delivery, and quality of life for PI patients and their families, and the other areas referenced above.

No other applications are solicited.

C. Funding

Approximately $2,458,778 is available in FY 2005 to fund this award. It is expected that the award will begin on or before August 31, 2005, and will be made for a 12-month budget period within a project period of up to five years. Funding estimates may change.

D. Where To Obtain Additional Information

For general comments or questions about this announcement, contact: Technical Information Management, CDC Procurement and Grants Office, 2920 Brandywine Road, Atlanta, GA 30341-4146, telephone: (770) 488-2700.

For technical questions about this program, contact: Leah Simpson, M.B.A., Project Officer, 2877 Brandywine Road, Suite 4847, Atlanta, GA 30341, telephone: (770) 488-8395, e-mail: LSimpson@cdc.gov.

Dated: August 10, 2005.
Alan A. Kotch,
Deputy Director, Procurement and Grants Office, Centers for Disease Control and Prevention.

[FR Doc. 05-16169 Filed 8-15-05; 8:45 am]

BILLING CODE 4163-18-P